DEPARTMENT OF THE INTERIOR

Fish and Wildlife Service

Issuance of Permit for Incidental Take of Threatened Species for the Lefever Property, El Paso County, CO

AGENCY: Fish and Wildlife Service, Interior.

ACTION: Notice of issuance of permit for incidental take of endangered species.

SUMMARY: On July 8, 2002, a notice was published in the Federal Register (Vol. 67 No. 130 FR 45142), that an application had been filed with the U.S. Fish and Wildlife Service (Service) by Thomas Lefever, El Paso County, Colorado, for a permit to incidentally take Preble's meadow jumping mouse (Zapus hudsonius preblei), pursuant to section 10(a)(1)(B) of the Endangered Species Act (Act) of 1973 (16 U.S.C. 1539), as amended. The “Environmental Assessment/Habitat Conservation Plan for Issuance of an Endangered Species Section 10(a)(1)(B) Permit for the Incidental Take of the Preble's Meadow Jumping Mouse (Zapus hudsonius preblei) for the Construction of a Single Family Residence at the Lefever Property in El Paso County, Colorado,” accompanied the permit application.

Notice is hereby given that on December 19, 2002, as authorized by the provisions of the Act, the Service issued a permit (TE-059261) to the above-named party subject to certain conditions set forth therein. The permit was granted only after the Service determined that it was applied for in good faith, that granting the permit will not be to the disadvantage of the threatened species, and that it will be consistent with the purposes and policy set forth in the Act, as amended.

Additional information on this permit action may be requested by contacting the Colorado Field Office, 755 Parfet Street, Suite 361, Lakewood, Colorado 80215, telephone (303) 275-2370, between the hours of 7 a.m. and 4:30 p.m. weekdays.

Dated: December 19, 2002.
John A. Blankenship,
Deputy Regional Director, Denver, Colorado.

[FR Doc. 03-1067 Filed 1-16-03; 8:45 am]

BILLING CODE 4310-55-P